FEDERAL COMMUNICATIONS COMMISSION

Notice of Public Information Collection(s) Being Submitted for Review to the Office of Management and Budget, Comments Requested

October 16, 2008.

SUMMARY: As part of its continuing effort to reduce paperwork burden and as required by the Paperwork Reduction Act (PRA) of 1995 (44 U.S.C. 3501-3520), the Federal Communications Commission invites the general public and other Federal agencies to comment on the following information collection(s). Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before November 21, 2008. If you anticipate that you will be submitting PRA comments, but find it difficult to do so within the period of time allowed by this notice, you should advise the FCC contact listed below as soon as possible.

ADDRESSES: Submit your comments to Nicholas A. Fraser, Office of Management and Budget (e-mail address: nfraser@omb.eop.gov), and to the Federal Communications Commission's PRA mailbox (e-mail address: PRA@fcc.gov). Include in the emails the OMB control number of the collection as shown in the SUPPLEMENTARY INFORMATION section below or, if there is no OMB control number, the Title as shown in the SUPPLEMENTARY INFORMATION section. If you are unable to submit your comments by email contact the person listed below to make alternate arrangements.

FOR FURTHER INFORMATION CONTACT: For additional information contact Jerry Cowden via e=mail at PRA@fcc.gov or at 202-418-0447. To view or obtain a copy of an information collection request (ICR) submitted to OMB: (1) Go to this OMB/GSA Web page: http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the OMB control number of the ICR you want to view (or its title if there is no OMB control number) and then click on the ICR Reference Number. A copy of the FCC submission to OMB will be displayed.

SUPPLEMENTARY INFORMATION: OMB Control Number: 3060-0204.

Title: Special Eligibility Showings for Authorizations in the Public Safety Pool (47 CFR 90.20(a)(2)(v) and 90.20(a)(2)(xi)).

Form Number: Not applicable.

Type of Review: Revision of a currently approved collection.

Respondents: Individuals and businesses.

Number of Respondents and Responses: 220 respondents; 220 responses.

Estimated Time per Response: 0.686 hour (range of 3 minutes to 45 minutes).

Frequency of Response: One-time reporting requirement.

Obligation to Respond: Required to obtain or retain benefits.

Total Annual Burden: 151 hours.

Total Annual Cost: None.

Privacy Act Impact Assessment: The information collection in 47 CFR 90.20(a)(2)(v) affects individuals, and there is a system of records that covers it (FCC/WTB-1, Wireless Services Licensing Records).

Nature and Extent of Confidentiality: Requests to withhold information submitted to the Commission from public inspection will be treated in accordance with section 0.459 of the Commission's rules.

Needs and Uses: The Commission collects this information to ensure that certain non-governmental applicants applying for the use of frequencies in the Public Safety Pool meet the eligibility criteria set forth in the Commission's rules. The collection is being revised to consolidate under one OMB control number two information collections that were previously under separate OMB control numbers.

Federal Communications Commission.
Marlene H. Dortch,
Secretary.

[FR Doc. E8-25188 Filed 10-21-08; 8:45 am]

BILLING CODE 6712-01-P